DEPARTMENT OF THE INTERIOR

National Park Service

[NPS-WASO-NRNHL-14923; PPWOCRADI0, PCU00RP14.R50000]

National Register of Historic Places; Notification of Pending Nominations and Related Actions

Nominations for the following properties being considered for listing or related actions in the National Register were received by the National Park Service before January 25, 2014. Pursuant to § 60.13 of 36 CFR Part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington, DC 20005; or by fax, 202-371-6447. Written or faxed comments should be submitted by March 11, 2014. Before including your address, phone number, email address, or other personal identifying information in your comment, you should be aware that your entire comment—including your personal identifying information—may be made publicly available at any time. While you can ask us in your comment to withhold your personal identifying information from public review, we cannot guarantee that we will be able to do so.

Dated: January 28, 2014.
J. Paul Loether,
Chief, National Register of Historic Places/National Historic Landmarks Program.

ALABAMA

Madison County

Twickenham Historic District (Boundary Increase), Roughly bounded by Clinton Ave., California St., Newman Ave., S. Green & Franklin St., Huntsville, 14000045

MASSACHUSETTS

Franklin County

Benson's New Block and the Mohawk Chambers, 136-138 & 130-134 Main St. & 11 Wells St., Greenfield, 14000046

MISSOURI

Adair County

Laughlin, Drs. George and Blanche, House, 706 S. Halliburton St., Kirksville, 14000047

Sojourners Club, 211 S. Elson St., Kirksville, 14000048

OKLAHOMA

Cleveland County

Logan Apartments, 720 W. Boyd St., Norman, 14000049

Delaware County

Beattie's Prairie, (Cherokee Trail of Tears MPS) Address Restricted, Jay, 14000050

Muskogee County

First Methodist Episcopal Church, 518 E. Houston St., Muskogee, 14000052

Masonic Temple, 121 S. 6th St., Muskogee, 14000053

Tulsa County

Woodward Park and Gardens Historic District, 2101 & 2435 S. Peoria Ave., Tulsa, 14000054

Washington County

Washington County Memorial Hospital, 412 SE. Frank Phillips Blvd., Bartlesville, 14000055

SOUTH CAROLINA

Charleston County

Mikell, Isaac Jenkins, House, 94 Rutledge Ave., Charleston, 14000056

TENNESSEE

Sullivan County

Grand Guitar, 3245 W. State St., Bristol, 14000057

[FR Doc. 2014-03780 Filed 2-21-14; 8:45 am]

BILLING CODE 4312-51-P